DEPARTMENT OF TRANSPORTATION

Federal Transit Administration

Public Transportation on Indian Reservations Program; Tribal Transit Program

AGENCY: Federal Transit Administration (FTA), DOT.

ACTION: Notice of Award.

SUMMARY: The Federal Transit Administration (FTA) announces the selection of projects to be funded under Fiscal Year (FY) 2007 appropriations for the Tribal Transit Program (TTP), a program authorized by the Safe, Accountable, Flexible, and Efficient Transportation Equity Act: A Legacy for Users (SAFETEA-LU).

FOR FURTHER INFORMATION CONTACT: Contact the appropriate FTA regional Tribal Liaison (Appendix A) for application-specific information and issues. For general program information, contact Lorna R. Wilson, Office of Transit Programs, at (202) 366-2053, e-mail: Lorna.Wilson@dot.gov. A TDD is available at 1-800-877-8339 (TDD/FIRS).

SUPPLEMENTARY INFORMATION: The Tribal Transit Program (TTP) established by Section 3013 SAFETEA-LU, Pub. L. 109-49 (August 15, 2005), under 49 U.S.C. 5311(c) makes funds available to federally recognized Indian tribes or Alaska Native villages, groups, or communities as identified by the Bureau of Indian Affairs (BIA) in the U.S. Department of the Interior for public transportation capital projects, operating costs and planning activities that are eligible costs under the Nonurbanized Area Formula Program (Section 5311).

A total of $10 million was made available for the program in FY 2007. A total of 75 applicants requested $21 million for new transit services, enhancement or expansion of existing transit services and planning studies including operational planning. FTA made project selections through a competitive process based on each applicant's responsiveness to the program evaluation criteria outlined in FTA's April 4, 2007, Federal Register Notice: Notice of Funding Availability and Solicitation for FY 2007 TTP (71 FR 16397). FTA evaluated applications for planning grants on a pass/fail basis, whereas FTA evaluated applications for start up and existing transit services on a numeric score system. FTA also took into consideration the current status of the FY 2006 grants for those tribes requesting multi-year funding. Because of the high demand, many applicants selected for funding will receive less funding than they requested to enable FTA to support an increased number of meritorious applications.

This notice only addresses FY 2007 funding for projects. Tribes that sought funding for a multi-year project in response to the FY 2007 solicitation must submit a new application in response to the FY 2008 Notice of Funding Availability (NOFA) in order to be considered for FY 2008 funding. The FY 2008 notice will be published in the spring of 2008.

The selected projects, providing $10 million to 65 tribes, break down as follows: $399,963 for transit planning studies and/or operational planning; $904,666 for startup projects for new transit service; and, $8,695,371 for enhancements or expansion of existing transit services. Each of the 65 awardees, as well as the applicants not selected for funding, will receive a letter explaining the funding decision. The successful applicants for FY 2007 are listed in Table 1.

Following publication of this notice, FTA's regional tribal liaison will contact each applicant selected for funding to discuss technical assistance/needs. In the event the contact information provided in the FY 2007 application has changed, please contact your tribal liaison with the current information in order to expedite the grant award process.

Issued in Washington, DC, this 29th day of February, 2008.
James S. Simpson,
Administrator.

Appendix A—FTA Regional Offices and Tribal Transit Liaisons

Region I—Massachusetts, Rhode Island, Connecticut, New Hampshire, Vermont and Maine—Richard H. Doyle, FTA Regional Administrator, Volpe National Transportation Systems Center, Kendall Square, 55 Broadway, Suite 920, Cambridge, MA 02142-1093, Phone: (617) 494-2055, Fax: (617) 494-2865, Regional Tribal Liaison: Judi Molloy.

Region II—New York, New Jersey—Brigid Hynes-Cherin, FTA Regional Administrator, One Bowling Green, Room 429, New York, NY 10004-1415, Phone: (212) 668-2170, Fax: (212) 668-2136, Regional Tribal Liaison: Rebecca Reyes-Alicea.

Region III—Pennsylvania, Maryland, Virginia, West Virginia, Delaware, Washington, DC, Letitia Thompson, FTA Regional Administrator, 1760 Market Street, Suite 500, Philadelphia, PA 19103-4124, Phone: (215) 656-7100, Fax: (215) 656-7260.

Region IV—Georgia, North Carolina, South Carolina, Florida, Mississippi, Tennessee, Kentucky, Alabama, Puerto Rico, Virgin Islands— Yvette G. Taylor, FTA Regional Administrator, 230 Peachtree St., N.W., Suite 800, Atlanta, GA 30303, Tel.: 404-865-5600, Fax: 404-865-5605, Regional Tribal Liaisons: Jamie Pfister and James Garland.

Region V—Illinois, Indiana, Ohio, Wisconsin, Minnesota, Michigan—Marisol R. Simon, FTA Regional Administrator, 200 West Adams Street, Suite 320, Chicago, IL 60606-5232, Phone: (312) 353-2789, Fax: (312) 886-0351, Regional Tribal Liaisons: William Wheeler and Joyce Taylor.

Region VI—Texas, New Mexico, Louisiana, Arkansas, Oklahoma—Robert Patrick, FTA Regional Administrator, 819 Taylor Street, Room 8A36, Ft. Worth, TX 76102, Phone: (817) 978-0550, Fax: (817) 978-0575, Regional Tribal Liaison: Lynn Hayes.

Region VII—Iowa, Nebraska, Kansas, Missouri—Mokhtee Ahmad, FTA Regional Administrator, 901 Locust Street, Suite 404, Kansas City, MO 64106, Phone: (816) 329-3920, Fax: (816) 329-3921, Regional Tribal Liaisons: Joni Roeseler and Cathy Monroe.

Region VIII—Colorado, North Dakota, South Dakota, Montana, Wyoming, Utah—Terry Rosapep, FTA Regional Administrator, 12300 West Dakota Avenue, Suite 310, Lakewood, CO 80228-2583, Phone: (720) 963-3300, Fax: (720) 963-3333, Regional Tribal Liaisons: Jennifer Stewart and David Beckhouse.

Region IX—California, Arizona, Nevada, Hawaii, American Samoa, Guam—Leslie Rogers, FTA Regional Administrator, 201 Mission Street, Suite 1650, San Francisco, CA 94105-1926, Phone: (415) 744-3133, Fax: (415) 744-2726, Regional Tribal Liaison: Lorraine Lerman.

Region X—Washington, Oregon, Idaho, Alaska—Richard Krochalis, FTA Regional Administrator, Jackson Federal Building, 915 Second Avenue, Suite 3142, Seattle, WA 98174-1002, Phone: (206) 220-7954, Fax: (206) 220-7959, Regional Tribal Liaisons: Bill Ramos and Annette Clothier.

BILLING CODE 4910-57-P

[FR Doc. 08-967 Filed 3-4-08; 8:45 am]

BILLING CODE 4910-57-C